DEPARTMENT OF DEFENSE

Office of the Secretary

[Transmittal No. 17-23]

Arms Sales Notification

AGENCY: Defense Security Cooperation Agency, Department of Defense.

ACTION: Arms sales notice.

SUMMARY: The Department of Defense is publishing the unclassified text of a section 36(b)(1) arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-23 with attached Policy Justification and Sensitivity of Technology.

Dated: August 2, 2017.
Aaron Siegel,
Alternate OSD Federal Register Liaison Officer, Department of Defense.

BILLING CODE 5001-06-C

Transmittal No. 17-23

Notice of Proposed Issuance of Letter of Offer Pursuant to Section 36(b)(1) of the Arms Export Control Act, as amended

(i) Prospective Purchaser: United Kingdom

(ii) Total Estimated Value:

Major Defense Equipment* | $887 million
Other | $148 million
Total | $1.035 billion

(iii) Description and Quantity or Quantities of Articles or Services under Consideration for Purchase:

Major Defense Equipment (MDE): Two thousand seven hundred forty-seven (2,747) Joint Light Tactical Vehicles (JLTV)

Non-MDE: Also included with this request are baseline integration kits, basic issue item kits, B-kit armor, engine arctic kits, fording kits, run-flat kits, spare tire kits, silent watch kits, power expansion kits cargo cover kits, maintainer and operator training, U.S. government technical assistance and logistics support services, and other related elements of logistics and program support.

(iv) Military Department: Army

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: July 10, 2017

*As defined in Section 47(6) of the Arms Export Control Act.

POLICY JUSTIFICATION

United Kingdom—Joint Light Tactical Vehicles (JLTV) and Accessories

The Government of the United Kingdom (UK) has requested a possible sale of up to two thousand seven hundred forty-seven (2,747) Joint Light Tactical Vehicles (JLTV). This possible sale also includes baseline integration kits, basic issue item kits, B-kit armor, engine arctic kits, fording kits, run-flat kits, spare tire kits, silent watch kits, power expansion kits cargo cover kits, maintainer and operator training, U.S. government technical assistance and logistics support services, and other related elements of logistics and program support. Total estimated cost is $1.035 billion.

This proposed sale supports the foreign policy and national security policies of the United States by helping to improve the security of a NATO ally which has been, and continues to be, an important partner on critical foreign policy and defense issues.

The proposed sale will help improve the UK's Light Tactical Vehicle Fleet and enhance its ability to meet current and future threats. The UK will have no difficulty absorbing this equipment into its armed forces.

The proposed sale will not alter the basic military balance in the region.

The principal contractor of this sale will be Oshkosh Defense, LLC, Oshkosh, Wisconsin. The procured items will require minimum contractor support until the foreign customer can eventually transition to internal organic support. There is no known offset agreement associated with this proposed sale.

There will be no adverse impact on U.S. defense readiness as a result of this proposed sale.

Transmittal No. 17-23

Notice of Proposed Issuance of Letter of Offer Pursuant to Section 36(b)(1) of the Arms Export Control Act, as amended

Annex Item No. vii

(vii) Sensitivity of Technology:

1. This sale will involve the release of sensitive technology to the Government of the United Kingdom. The Joint Light Tactical Vehicle platform is classified as SECRET. The Joint Light Tactical Vehicle fleet will incorporate ballistic armor kits for protection from improvised explosive devices.

2. Sensitive and/or classified (up to SECRET) elements of the proposed Joint Light Tactical Vehicle include hardware and accessories, components and associated software: baseline integration kits, basic issue items, ballistic-kit armor, engine arctic kits, fording kits, run-flat kits, silent watch energy kits, power expansion kits and cargo covering kits.

3. A determination has been made that the United Kingdom can provide substantially the same degree of protection for this technology as the U.S. Government. This proposed sale is necessary in furtherance of U.S. foreign policy and national security objectives outlined in the Policy Justification.

4. All defense articles and services listed in this transmittal have been authorized for release and export to the Government of the UK.

[FR Doc. 2017-16595 Filed 8-4-17; 8:45 am]

BILLING CODE 5001-06-P